DEPARTMENT OF THE INTERIOR

Bureau of Indian Affairs

[178A2100DD/AAKC001030/A0A501010.999900 253G]

Indian Gaming; Approval of an Amendment to a Tribal-State Class III Gaming Compact in the State of Michigan

AGENCY: Bureau of Indian Affairs, Interior.

ACTION: Notice.

SUMMARY: The Nottawaseppi Huron Band of the Potawatomi and State of Michigan negotiated a Second Amendment to the Gaming Compact governing Class III gaming; this notice announces approval of the Second Amendment.

DATES: Effective December 12, 2016.

FOR FURTHER INFORMATION CONTACT: Ms. Paula L. Hart, Director, Office of Indian Gaming, Office of the Assistant Secretary—Indian Affairs, Washington, DC 20240, (202) 219-4066.

SUPPLEMENTARY INFORMATION: Section 11 of the Indian Gaming Regulatory Act (IGRA) requires the Secretary of the Interior to publish in the Federal Register notice of approved Tribal-State compacts that are for the purpose of engaging in Class III gaming activities on Indian lands. See Public Law 100-497, 25 U.S.C. 2701 et seq. All Tribal-State Class III compacts, including amendments, are subject to review and approval by the Secretary under 25 CFR 293.4. The Second Amendment does not change the revenue sharing requirements under the existing compact, but rather adjusts the destination of a portion of the Tribe's annual payment to be deposited into the Michigan Native American Heritage Fund, establishes a Heritage Fund Board and allows the Local Revenue Sharing Board to approve distributions in advance. The Second Amendment is approved. See 25 U.S.C. 2710(d)(8)(A).

Dated: November 28, 2016.
Lawrence S. Roberts,
Principal Deputy Assistant Secretary—Indian Affairs.

[FR Doc. 2016-29744 Filed 12-9-16; 8:45 am]

BILLING CODE 4337-15-P